DEPARTMENT OF DEFENSE

Office of the Secretary

[Transmittal No. 23-10]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 23-10, Policy Justification, and Sensitivity of Technology.

Dated: August 16, 2024.
Aaron T. Siegel,
Alternate OSD Federal Register Liaison Officer, Department of Defense.

BILLING CODE 6001-FR-P

BILLING CODE 6001-FR-C

Transmittal No. 23-10

Notice of Proposed Issuance of Letter of Offer Pursuant to Section 36(b)(1) of the Arms Export Control Act, as amended

(i) Prospective Purchaser: Republic of Poland

(ii) Total Estimated Value:

Major Defense Equipment * | $ 8 billion
Other | $ 2 billion
TOTAL | $10 billion

Funding Source: National Funds

(iii) Description and Quantity or Quantities of Articles or Services under Consideration for Purchase:

Major Defense Equipment (MDE):

Eighteen (18) M142 High Mobility Artillery Rocket System (HIMARS) Launchers

Four hundred sixty-eight (468) HIMARS Launcher Loader Module Kits

Forty-five (45) M57 Army Tactical Missile Systems (ATACMS)

Four hundred sixty-one (461) M30A2 Guided Multiple Launch Rocket System Alternative Warhead (GMLRS-AW) Pods with Insensitive Munitions Propulsion System (IMPS)

Five hundred twenty-one (521) M31A2 Guided Multiple Launch Rocket System Unitary (GMLRS-U) Pods with Insensitive Munitions Propulsion System (IMPS)

Five hundred thirty-two (532) XM403 Guided Multiple Launch Rocket System Extended Range Alternative Warhead (GMLRS-ER AW) Pods

Non-MDE:

Also included are Low Cost Reduced Range Practice Rockets; support equipment; communications equipment; spare and repair parts; test sets; batteries; laptop computers; publications and technical data; facility design; personnel training and equipment; systems integration support; Quality Assurance Teams and a Technical Assistance Fielding Team; United States Government and contractor engineering and logistics personnel services; training; sensors; and other related elements of logistics and program support.

(iv) Military Department: Army (PL-B-UEA, PL-B-UEB, PL-B-UEF, PL-B-UEG)

(v) Prior Related Cases, if any: PL-B-UDJ

(vi) Sales Commission, Fee, etc., Paid, Offered, or Agreed to be Paid: None

(vii) Sensitivity of Technology Contained in the Defense Article or Defense Services Proposed to be Sold: See Attached Annex

(viii) Date Report Delivered to Congress: February 7, 2023

* As defined in Section 47(6) of the Arms Export Control Act.

POLICY JUSTIFICATION

Poland—High Mobility Artillery Rocket System (HIMARS)

The Republic of Poland has requested to buy eighteen (18) M142 High Mobility Artillery Rocket System (HIMARS) launchers; four hundred sixty-eight (468) HIMARS Launcher Loader Module kits; forty-five (45) M57 Army Tactical Missile Systems (ATACMS); four hundred sixty-one (461) M30A2 Guided Multiple Launch Rocket System Alternative Warhead (GMLRS-AW) pods with Insensitive Munitions Propulsion System (IMPS); five hundred twenty-one (521) M31A2 Guided Multiple Launch Rocket System Unitary (GMLRS-U) pods with Insensitive Munitions Propulsion System (IMPS); and five hundred thirty-two (532) XM403 Guided Multiple Launch Rocket System Extended Range Alternative Warhead (GMLRS-ER AW) pods. Also included are Low Cost Reduced Range Practice Rockets; support equipment; communications equipment; spare and repair parts; test sets; batteries; laptop computers; publications and technical data; facility design; personnel training and equipment; systems integration support; Quality Assurance Teams and a Technical Assistance Fielding Team; United States Government and contractor engineering and logistics personnel services; training; sensors; and other related elements of logistics and program support. The total estimated cost is $10 billion.

This proposed sale will support the foreign policy goals and national security objectives of the United States by improving the security of a NATO Ally that is a force for political stability and economic progress in Europe.

The proposed sale will improve Poland's military goals of updating capability while further enhancing interoperability with the United States and other allies. Poland intends to use these defense articles and services to modernize its armed forces and expand its capability to strengthen its homeland defense and deter regional threats. Poland will have no difficulty absorbing this equipment into its armed forces.

The proposed sale of this equipment and support will not alter the basic military balance in the region.

The principal contractor will be Lockheed Martin, Grand Prairie, TX. There are no known offset agreements proposed in connection with this potential sale. Any future offset agreement would be defined in negotiations between the purchaser and the contractor(s).

Implementation of this proposed sale will require U.S. Government or contractor representatives to travel to Poland for program management reviews to support the program. Travel is expected to occur approximately twice per year as needed to support equipment fielding and training.

There will be no adverse impact on U.S. defense readiness as a result of this proposed sale.

Transmittal No. 23-10

Notice of Proposed Issuance of Letter of Offer Pursuant to Section 36(b)(1) of the Arms Export Control Act

Annex

Item No. vii

(vii) Sensitivity of Technology:

1. The M142 High Mobility Artillery Rocket System (HIMARS) is a C-130 transportable wheeled launcher mounted on a 5-ton Family of Medium Tactical Vehicles truck chassis. HIMARS is the modern Army-fielded version of the Multiple Launch Rocket System (MLRS) M270 launcher and can fire all of the MLRS Family of Munitions (FOM) including Guided Multiple Launch Rocket System (GMLRS) variants and the Army Tactical Missile System (ATACMS). Utilizing the MLRS FOM, the HIMARS can engage targets between 15 and 300 kilometers with GPS-aided precision accuracy.

2. The HIMARS Launcher Loader Module (LM) is mounted to the vehicle chassis and provides the necessary structure and mechanisms for the loading, launching, and unloading of all the MFOM rocket and missile munitions. The LM consists of a platform, a turret, and a base assembly. The base assembly interfaces with the carrier vehicle. The turret system sits on top of the base and allows for the aiming of the LM assembly in azimuth. The platform, on which one rocket pod is mounted, allows for the aiming of the LM in elevation.

3. The M57 Army Tactical Missile System (ATACMS)—Unitary is a conventional, semi-ballistic missile that utilizes a 500-pound high explosive warhead. It has an effective range of between 70 and 300 kilometers and has increased lethality and accuracy over previous versions of the ATACMS due to a GPS/Precise Position System (PPS) aided navigation system.

4. The M31A2 GMLRS Unitary is the Army's primary munition for units fielding the M142 HIMARS and M270Al Multiple Launcher Rocket System (MLRS) Launchers. The M31 Unitary is a solid propellant artillery rocket that uses Global Positioning System/Precise Positioning Service (GPS/PPS)-aided inertial guidance to accurately and quickly deliver a single high-explosive blast fragmentation warhead to targets at ranges from 15-70 kilometers. The rockets are fired from a launch pod container that also serves as the storage and transportation container for the rockets. Each rocket pod holds six (6) total rockets.

5. The M30A2 GMLRS Alternative Warhead shares a greater than 90% commonality with the M31A1 Unitary. The primary difference between the GMLRS-U and GMLRS-AW is the replacement of the Unitary's high explosive warhead with a 200-pound fragmentation warhead of pre-formed tungsten penetrators which is optimized for effectiveness against large area and imprecisely located targets. The munitions otherwise share a common motor, GPS/PPS-aided inertial guidance and control system, fuzing mechanism, multi-option height of burst capability, and effective range of 15-70km.

6. The Extended Range (ER) GMLRS provides a persistent, responsive, all-weather, rapidly deployed, long range, surface-to surface, area- and point-precision strike capability. The XM403 Alternative Warhead (AW) carries a 200-pound fragmentation assembly filled with high explosives which, upon detonation, accelerates two layers of preformed penetrators optimized for effectiveness against large area and imprecisely located targets. The ER GMLRS maintains the accuracy and effectiveness demonstrated by the baseline GMLRS out to an increased range of 150 km and includes a modernized Height of Burst (HOB) capability.

7. The highest level of classification of defense articles, components, and services included in this potential sale is SECRET.

8. If a technologically advanced adversary were to obtain knowledge of the specific hardware and software elements, the information could be used to develop countermeasures that might reduce weapon system effectiveness or be used in the development of a system with similar or advanced capabilities.

9. A determination has been made that Poland will provide substantially the same degree of protection for the sensitive technology being released as the U.S. Government. This sale is necessary in furtherance of the U.S. foreign policy and national security objectives outlined in the Policy Justification.

10. All defense articles and services listed in this transmittal have been authorized for release and export to the Republic of Poland.

[FR Doc. 2024-19129 Filed 8-23-24; 8:45 am]

BILLING CODE 6001-FR-P